DEPARTMENT OF THE INTERIOR

Bureau of Land Management

[L13200000 DS0000 LXSSK1700000 20X LLWYP07000]

Notice of Availability of the Record of Decision and Approved Amendment to the Resource Management Plan for the Buffalo Field Office, Wyoming

AGENCY: Bureau of Land Management, Interior.

ACTION: Notice of availability.

SUMMARY: In accordance with the National Environmental Policy Act of 1969, as amended, and the Federal Land Policy and Management Act of 1976, as amended, the Bureau of Land Management (BLM) Buffalo Field Office prepared a Record of Decision (ROD) for the Supplemental Environmental Impact Statement (EIS) and Resource Management Plan (RMP) Amendment for the 2015 Buffalo Field Office RMP. This effort was in response to a United States District Court of Montana opinion and order (Western Organization of Resource Councils, et al. v. BLM; 3/26/2018 and 7/31/2018). The Wyoming State Director signed the ROD, which constitutes the final plan amendment decision of the BLM, on November 22, 2019.

ADDRESSES: Copies of the ROD are available at the Buffalo Field Office at 1425 Fort Street, Buffalo, WY 82834, and online at http://go.usa.gov/ xP6S3.

FOR FURTHER INFORMATION CONTACT: Contact Thomas (Tom) Bills, RMP Supplemental EIS Project Manager; telephone: 307-684-1133; email: tbills@blm.gov. Persons who use a telecommunications device for the deaf may call the Federal Relay Service (FRS) at 1-800-877-8339 to contact Mr. Bills during normal business hours. The FRS is available 24 hours a day, seven days a week, to leave a message or question. You will receive a reply during normal business hours.

SUPPLEMENTARY INFORMATION: The 2015 Buffalo Field Office Approved RMP provided a single, comprehensive land use plan to guide management of BLM-administered lands and minerals in the Buffalo Field Office, which includes approximately 800,000 acres of BLM surface land and 4.7 million acres of BLM mineral estate in Campbell, Johnson and Sheridan counties in north-central Wyoming.

Based on the above-referenced court decision, feedback from cooperating agencies and stakeholders, and public scoping, the BLM developed the supplemental EIS and analyzed a No Action Alternative and an Action Alternative. The alternatives focused on the allocation of lands open for leasing federal coal, in response to the court order.

The No Action Alternative represented the decision area from the 2015 RMP and brought forward all management decisions that precluded coal development in the 2015 RMP. It relied on decisions from the 2001 coal screening process that informed the 2015 RMP, but used an updated 2018 coal production baseline. The BLM also used the 2019 U.S. Energy Information Administration development forecast to project development in the Buffalo Field Office over the 20-year planning period. The No Action Alternative analyzed 686,896 acres for consideration of coal leasing, which included approximately 73.66 billion tons of BLM-administered coal reserves.

The Action Alternative also used the 2018 coal production baseline and the 2019 U.S. Energy Information Administration development forecast. In addition, the Action Alternative applied new coal screens (as described in 43 CFR 3420.1-4(e)), considered new scientific and geospatial data, and evaluated issues identified through internal and public scoping. Based on these factors, the Action Alternative area analyzed 455,467 acres for consideration of coal leasing, which included approximately 52.24 billion tons of BLM-administered coal reserves.

The Final Supplemental EIS was published on October 4, 2019 (84 FR 53170). During the 30-day protest period, the BLM Director received four protest letters. All protests were resolved prior to the issuance of the ROD. Simultaneously with the protest period, the Governor of Wyoming conducted a 60-day consistency review of the Final Supplemental EIS and Proposed Plan Amendment and found no inconsistencies.

The approved RMP amendment is a modification of the Supplemental EIS's Action Alternative that makes 495,251 acres of federal coal available for consideration for leasing. This area includes all the acreage identified as available under the Action Alternative, as well as 40,847 additional acres that were included under the No Action Alternative. The BLM made this decision as a result of public, stakeholder, and cooperating agency input on the Supplemental EIS as well as updated best available information and special expertise provided by cooperating agencies and the public.

The ROD summarizes the decisions, clarifications, and modifications included in the Approved RMP Amendment.

Authority: 43 CFR 1610.2(c), 40 CFR 1506.6.

Valori Armstrong,
Acting State Director.

[FR Doc. 2019-26024 Filed 11-29-19; 8:45 am]

BILLING CODE 4310-22-P